DEPARTMENT OF COMMERCE

Office of the Secretary

Proposed Information Collection; Comment Request; Foreign National Request Form

AGENCY: Office of the Secretary/Office of Security (OSY), Commerce.

ACTION: Notice.

SUMMARY: In compliance with the Paperwork Reduction Act of 1995, the Department of Commerce (DOC) provides notice that it will submit an information collection request (ICR) to the Office of Management and Budget (OMB) for emergency approval of a proposed information collection. Upon receiving the requested six-month emergency approval by OMB, DOC will follow the general Paperwork Reduction Act procedures to obtain extended approval for this proposed information collection.

DATES: Written comments must be submitted on or before August 28, 2018.

ADDRESSES: Direct all written comments to Jennifer Jessup, Departmental Paperwork Clearance Officer, Department of Commerce, Room 6616, 1401 Constitution Avenue NW, Washington, DC 20230 (or via the internet at DOCPRA@doc.gov).

FOR FURTHER INFORMATION CONTACT: Requests for additional information or copies of the information collection instrument and instructions should be directed to Philip Bennett, NIST, 100 Bureau Drive, Gaithersburg, MD 20899-1090, tel. (301) 975-6306, or philip.bennett@nist.gov.

SUPPLEMENTARY INFORMATION:

I. Abstract

The purpose of this collection is to gather information to mitigate variances in foreign access management program implementation and registration information requirements needed to reach risk-based determinations of physical and logical access by Foreign National Visitors and Guests to Commerce facilities and resources. Due to the increasing diversity of foreign national participation in Departmental programs, considerable efforts have been made to baseline requirements as a means to define uniform program standards as well as to expand current guidance beyond foreign visitor control to manage emerging risks associated with physical and logical access to the Department' s facilities and resources.

II. Method of Collection

This information is collected in both paper form and electronically.

III. Data

OMB Control Number: 0690-XXXX.

Form Number(s): 207-12-1.

Type of Review: New submission. Emergency request.

Affected Public: Individuals or households.

Estimated Number of Respondents: 12,000.

Estimated Time per Response: 15 minutes.

Estimated Total Annual Burden Hours: 3,000.

Estimated Total Annual Cost to Public: $7.

IV. Request for Comments

Commerce invites comments on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-17953 Filed 8-20-18; 8:45 am]

BILLING CODE 3510-17-P